DEPARTMENT OF TRANSPORTATION

Office of the Secretary

[Docket No. OST-07-28902]

Notice of Request for Renewal of a Previously Approved Collection

AGENCY: Office of the Secretary, DOT.

ACTION: Notice.

SUMMARY: In accordance with the Paperwork Reduction Act of 1995, this notice announces the U.S. Department of Transportation's (DOT) intention to request extension of a previously approved information collection.

DATES: Comments on this notice must be received by October 9, 2007.

ADDRESSES: You may submit comments (identified by DOT DMS Docket Number OST-07-28902) by any of the following methods:

• Web Site: http://dms.dot.gov. Follow the instructions for submitting comments on the DOT electronic docket site.

• Fax: 1-202-493-2251.

• Mail: Docket Management Facility; U.S. Department of Transportation, 1200 New Jersey Ave., SE., Washington, DC 20590-0001.

• Hand Delivery: West Building, Ground Floor, Rm. W-12-140, 1200 New Jersey Ave., SE., Washington, DC 20590-0001, between 9 a.m. and 5 p.m., Monday through Friday, except on Federal holidays.

• Federal eRulemaking Portal: Go to http://www.regulations.gov. Follow the online instructions for submitting comments.

Instructions: All submissions must include the agency name and docket number for this notice. For detailed instructions on submitting comments and additional information on the rulemaking process, see the Public Participation heading of the Supplementary Information section of this document. Note that all comments received will be posted without change to http://dms.dot.gov including any personal information provided. Please see the Privacy Act heading under Regulatory Notes.

• Docket: For access to the docket to read background documents or comments received, go to http://dms.dot.gov at any time or to the West Building, Ground Floor, Rm. W-12-140, 1200 New Jersey Ave., SE., Washington, DC 20590-0001, between 9 am and 5 pm, Monday through Friday, except on Federal holidays.

FOR FURTHER INFORMATION CONTACT: Ellen Shields, Business Policy Division, M-61, Office of the Senior Procurement Executive, Office of the Secretary, (202) 366-4268. Refer to OMB Control Number 2105-0520.

SUPPLEMENTARY INFORMATION: Title: Uniform Administrative Requirements For Grants and Cooperative Agreements to State and Local Governments.

OMB Control Number: 2105-0520.

Type of Request: Extension without change, of a previously approved collection.

Abstract: The requested extension of the approved control number covers the information and collection requirements imposed by the Office of Management and Budget (OMB) Circular A-102, Grants and Cooperative Agreements with State and Local Governments, which the Department of Transportation codified at 49 CFR part 18. The information collected, retained and provided by the State and local government grantees is required to ensure grantee eligibility and their conformance with Federally mandated reporting requirements. OMB provides management and oversight of the circular. OMB also provides for a standard figure of seventy burden hours per grantee for completion of required forms. This collection covers only those DOT programs that utilize the standard OMB forms SF 269, SF 270, SF 271, SF 272 and SF 424.

Respondents: State and local governments receiving Federal financial assistance from the DOT.

Estimated Number of Respondents: 1,795.

Estimated Total Burden on Respondents: 125,650 hours.

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology.

All responses to this notice will be summarized and included in the request for OMB approval. All comments will also become a matter of public record.

Issued in Washington, DC on August 1, 2007.
David J. Litman,
Senior Procurement Executive.

[FR Doc. E7-15439 Filed 8-7-07; 8:45 am]

BILLING CODE 4910-9X-P